POSTAL SERVICE

Change in Rates of General Applicability for Competitive Products; Correction

AGENCY: Postal Service.™

ACTION: Notice; correction.

SUMMARY: The Postal Service published in the Federal Register of February 24, 2009 (74 FR 8434), in accordance with 39 U.S.C. 3632(b)(2), a Notice document providing the February 3, 2009 Decision of the Governors of the United States Postal Service on Changes in Rates and Classes of General Applicability for Certain Competitive Products (Governors Decision No. 09-01), and a record of the proceedings in connection with the Decision. One of the tables in the document contained seven incorrect rates. This document sets forth the table with the correct rates.

DATES: This correction is effective March 17, 2009 and is applicable on May 11, 2009.

FOR FURTHER INFORMATION CONTACT: Daniel J. Foucheaux, 202-268-2989.

SUPPLEMENTARY INFORMATION:

Background

On February 3, 2009, the Governors of the Postal Service established prices and classification changes for competitive products, pursuant to their authority under 39 U.S.C. 3632. On February 24, 2009, the Governors' Decision and the record of proceedings in connection with the Decision were published in the Federal Register as required by 39 U.S.C. 3632(b)(2). Following the adoption of the Governor's Decision, it was discovered that one of the rate tables, pertaining to International Surface Air Lift M-Bag ISC (ISC Drop Shipment), set out in section 2230.6 of the Mail Classification Schedule, included seven incorrect incremental rates for Rate Group 11. The Postal Service advised the Governors of the errors and provided them with a revised copy of the table incorporating the correct rates. The corrected rate table subsequently was filed by the Postal Service with the Postal Regulatory Commission on February 20, 2009.

Need for Correction

One of the rate tables contained in section 2230.6 of the Mail Classification Schedule, as adopted by Governors' Decision No. 09-01, did not incorporate the correct incremental rates for International Surface Air Lift (ISAL) M-Bag drop-shipment in Rate Group 11.

Correction

Correct table b, International Surface Air Lift M-Bag ISC (ISC Drop Shipment) that appears on page 8455 of the Federal Register of February 24, 2009, to read as follows:

Price group | 5 lbs. | 6 lbs. | 7 lbs. | 8 lbs. | 9 lbs. | 10 lbs. | 11 lbs. | Each additional pound
1 | 15.90 | 16.00 | 16.10 | 16.20 | 16.30 | 16.40 | 16.50 | 1.50
2 | 14.30 | 14.85 | 15.40 | 15.95 | 16.50 | 17.05 | 17.60 | 1.60
3 | 11.45 | 12.75 | 14.05 | 15.35 | 16.65 | 17.95 | 19.25 | 1.75
4 | 11.45 | 12.75 | 14.05 | 15.35 | 16.65 | 17.95 | 19.25 | 1.75
5 | 11.45 | 12.75 | 14.05 | 15.35 | 16.65 | 17.95 | 19.25 | 1.75
6 | 11.45 | 12.75 | 14.05 | 15.35 | 16.65 | 17.95 | 19.25 | 1.75
7 | 11.45 | 12.75 | 14.05 | 15.35 | 16.65 | 17.95 | 19.25 | 1.75
8 | 11.45 | 12.75 | 14.05 | 15.35 | 16.65 | 17.95 | 19.25 | 1.75
9 | 18.25 | 20.25 | 22.25 | 24.25 | 26.25 | 28.25 | 30.25 | 2.75
10 | 16.25 | 18.40 | 20.55 | 22.70 | 24.85 | 27.00 | 29.15 | 2.65
11 | 11.65 | 12.99 | 14.33 | 15.67 | 17.01 | 18.35 | 19.69 | 1.79
12 | 12.90 | 14.60 | 16.30 | 18.00 | 19.70 | 21.40 | 23.10 | 2.10
13 | 14.40 | 15.85 | 17.30 | 18.75 | 20.20 | 21.65 | 23.10 | 2.10
14 | 12.05 | 14.35 | 16.65 | 18.95 | 21.25 | 23.55 | 25.85 | 2.35
15 | 16.20 | 19.00 | 21.80 | 24.60 | 27.40 | 30.20 | 33.00 | 3.00
Note: ISC Drop Shipment M-bags are subject to the minimum price for 5 lbs.

Neva R. Watson,
Attorney, Legislative.

[FR Doc. E9-5671 Filed 3-16-09; 8:45 am]

BILLING CODE 7710-12-P